DEPARTMENT OF THE TREASURY

Internal Revenue Service

26 CFR Part 1

[TD 9132]

RIN 1545-BB05

Changes in Use Under Section 168(i)(5); Correction

AGENCY: Internal Revenue Service (IRS), Treasury.

ACTION: Correction to temporary regulations.

SUMMARY: This document contains a correction to temporary regulations that were published in the Federal Register on June 17, 2004 (69 FR 33840) relating to the depreciation of property subject to section 168 of the Internal Revenue Code.

DATES: This correction is effective June 17, 2004.

FOR FURTHER INFORMATION CONTACT: Sara Logan or Kathleen Reed, (202) 622-3110 (not a toll-free number).

SUPPLEMENTARY INFORMATION:

Background

The correction notice that is the subject of this document is under section 168 of the Internal Revenue Code.

Need for Correction

As published, the correction notice (TD 9132), contains an error that may prove to be misleading and is in need of clarification.

Correction of Publication

Accordingly, the correction notice (TD 9132), which was the subject of FR Doc. 04-13723, is corrected as follows:

PART 1—INCOME TAXES

§ 1.168(i)-4 [Corrected]

On page 33843, column 2, amendatory paragraph 5, lines 2 and 3, the language “read as follows: § 1.168(i)-4 Changes in use.” is corrected to read as follows: “reads as follows:

§ 1.168(i)-4 Changes in use.”

Cynthia Grigsby,
Acting Chief, Publications and Regulations Branch, Legal Processing Division, Associate Chief Counsel (Procedures and Administration).

[FR Doc. 04-17081 Filed 7-26-04; 8:45 am]

BILLING CODE 4830-01-P